DEPARTMENT OF TRANSPORTATION

Federal Aviation Administration

14 CFR Part 39

[Docket No. FAA-2009-1028; Directorate Identifier 2009-NM-188-AD]

RIN 2120-AA64

Airworthiness Directives; Gulfstream Aerospace LP (Type Certificate Previously Held by Israel Aircraft Industries, Ltd.) Model Gulfstream G150 Airplanes

AGENCY: Federal Aviation Administration (FAA), Department of Transportation (DOT).

ACTION: Proposed rule; withdrawal.

SUMMARY: The FAA withdraws a notice of proposed rulemaking (NPRM) that proposed a new airworthiness directive (AD) for certain Model Gulfstream G150 airplanes. The proposed AD would have required inspecting to determine the manufacturer of the baggage compartment rubber seals, and replacing the baggage compartment rubber seals manufactured by Gumiyan with seals manufactured by Rubbercraft. Since the proposed AD was issued, we have received new data from the manufacturer stating that all affected airplanes have already been modified as described in the proposed AD. Accordingly, the proposed AD is withdrawn.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Mike Borfitz, Aerospace Engineer, International Branch, ANM-116, Transport Airplane Directorate, FAA, 1601 Lind Avenue, SW., Renton, Washington 98057-3356; telephone (425) 227-2677; fax (425) 227-1149.

SUPPLEMENTARY INFORMATION:

Discussion

We proposed to amend part 39 of the Federal Aviation Regulations (14 CFR part 39) with a notice of proposed rulemaking (NPRM) for a new AD for certain Model Gulfstream G150 airplanes. That NPRM was published in the Federal Register on November 5, 2009 (74 FR 57266). The NPRM would have required inspecting to determine the manufacturer of the baggage compartment rubber seals, and replacing the baggage compartment rubber seals manufactured by Gumiyan with seals manufactured by Rubbercraft. The NPRM resulted from mandatory continuing airworthiness information (MCAI) originated by an aviation authority of another country to identify and correct an unsafe condition on an aviation product. The MCAI described the unsafe condition as:

IAI Company Flammability tests revealed that the baggage compartment rubber seals manufactured by Gumiyan are not compliant with FAR [Federal Aviation Regulation] 25, Appendix F, Part I requirements.

The proposed actions were intended to prevent potential ignition of the baggage compartment rubber seals, which could lead to a larger fire.

Actions Since NPRM Was Issued

Since we issued the NPRM, Gulfstream Aerospace LP has informed the FAA that all Model Gulfstream G150 airplanes have been modified in accordance with Gulfstream Service Bulletin 150-25-055, dated October 28, 2008 (specified as the appropriate source of service information for accomplishing the requirements of the proposed AD). Gulfstream Aerospace LP states that, consequently, all actions specified in the NPRM are complete.

FAA's Conclusions

Upon further consideration, we have determined that the proposed AD is not necessary. Accordingly, the NPRM is withdrawn.

Withdrawal of the NPRM does not preclude the FAA from issuing another related action or commit the FAA to any course of action in the future.

Regulatory Impact

Since this action only withdraws an NPRM, it is neither a proposed nor a final rule and therefore is not covered under Executive Order 12866, the Regulatory Flexibility Act, or DOT Regulatory Policies and Procedures (44 FR 11034, February 26, 1979).

List of Subjects in 14 CFR Part 39

Air transportation, Aircraft, Aviation safety, Safety.

The Withdrawal

Accordingly, we withdraw the NPRM, Docket No. FAA-2009-1028, Directorate Identifier 2009-NM-188-AD, which was published in the Federal Register on November 5, 2009 (74 FR 57266).

Issued in Renton, Washington, on May 14, 2010.
Ali Bahrami,
Manager, Transport Airplane Directorate, Aircraft Certification Service.

[FR Doc. 2010-12673 Filed 5-25-10; 8:45 am]

BILLING CODE 4910-13-P